ENVIRONMENTAL PROTECTION AGENCY

[ER-FRL-9012-9]

Environmental Impact Statements; Notice of Availability

Responsible Agency: Office of Federal Activities, General Information (202) 564-7146 or http://www.epa.gov/compliance/nepa/.

Weekly receipt of Environmental Impact Statements filed 12/30/2013 through 01/03/2014 pursuant to 40 CFR 1506.9.

Notice

Section 309(a) of the Clean Air Act requires that EPA make public its comments on EISs issued by other Federal agencies. EPA's comment letters on EISs are available at: http://www.epa.gov/compliance/nepa/eisdata.html.

EIS No. 20130384, Draft Supplement, USFS, NV, Ely Westside Rangeland Project, Comment Period Ends: 02/24/2014, Contact: Vernon Keller 775-335-5336

EIS No. 20140000, Draft EIS, USACE, NC, Village of Bald Head Island Shoreline Protection Project, Comment Period Ends: 02/24/2014, Contact: Ronnie Smith 910-251-4829

EIS No. 20140001, Draft EIS, APHIS, 00, Determinations of Nonregulated Status for 2, 4-D-Resistant Corn and Soybean Varieties, Comment Period Ends: 02/24/2014, Contact: Sid Abel 301-734-6352

Dated: January 7, 2014.
Cliff Rader,
Director, NEPA Compliance Division, Office of Federal Activities.

[FR Doc. 2014-00214 Filed 1-9-14; 8:45 am]

BILLING CODE 6560-50-P